DEPARTMENT OF HEALTH AND HUMAN SERVICES

Health Resources and Services Administration

Advisory Committee; Notice of Meeting

In accordance with section 10(a)(2) of the Federal Advisory Committee Act (Public Law 92-463), announcement is made of the following National Advisory body scheduled to meet during the month of June 2001.

The National Advisory Committee on Rural Health will convene its thirty-eight meeting at the time and place specified below:

Name: National Advisory Committee on Rural Health.

Date and Time: June 3, 2001; 2 p.m.-5:15 p.m., June 4, 2001; 8:30 a.m.-7 p.m., June 5, 2001; 8:30 a.m.-12:30 p.m..

Place: Squaw Valley Lodge, 201 Squaw Peak Road, Olympic Valley, CA 96146, Phone: 1-800-922-9970.

The meeting is open to the public.

Purpose: The National Advisory Committee on Rural Health provides advice and recommendations to the Secretary with respect to the delivery, research, development, and administration of health care services in rural areas.

Agenda: Sunday afternoon, June 3, at 2 p.m. the acting chairperson, Tom Nesbitt will open the meeting and welcome the Committee members. The first plenary session will be a presentation on a public health proposal by two of the members. This will be followed by a discussion on the Committee's 2001 project, “A Targeted Look at the Rural Safety Net.” At 3:45 p.m. the presentations will include discussions on “Maintaining the Rural Health Care Delivery System Safety Net.”

Monday morning at 8:30 a.m., the Committee will prepare for site visits. From 9 a.m. to 7 p.m. the Committee will make site visits to the Placer County Medical and Public Health Clinic, the Eastern Plumas District Hospital and the Plumas District Hospital. Transportation to the sites will not be provided to the general public.

The final plenary session will be convened on Tuesday, June 5. Beginning at 8:30 a.m. there will be a brief review of the site visits, a review of the public health proposal presented on Sunday and state presentations from California and Nevada on “Federal Safety Issues in Rural Areas.” The meeting will conclude with a discussion on the Committee's Report, future activities and the next meeting. The meeting will be adjourned at 12:30 p.m.

Anyone requiring information regarding the subject Committee should contact Marcia K. Brand, Ph.D., Executive Secretary, National Advisory Committee on Rural Health, Health Resources and Services Administration, Room 9A-55, Parklawn Building, 5600 Fishers Lane, Rockville, MD 20857, telephone (301) 443-0835, Fax (301) 443-2803.

Persons interested in attending any portion of the meeting should contact Michele Pray, Office of Rural Health Policy (ORHP), (301) 443-0835. The National Advisory Committee meeting agenda will be posted on ORHP's Web site, http://www.ruralhealth.hrsa.gov.

Dated: May 21, 2001.
Jane M. Harrison,
Director, Division of Policy Review and Coordination.

[FR Doc. 01-13250 Filed 5-24-01; 8:45 am]

BILLING CODE 4160-15-P